FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012195-001.

Title: CSCL/UASC Slot Exchange Agreement, Asia-Europe/Mediterranean—U.S. East Coast AEX7/MINA.

Parties: China Shipping Container Lines Co., Ltd. and China Shipping Container Lines (Hong Kong) Co., Ltd. (acting as a single party) and United Arab Shipping Company (S.A.G.).

Filing Party: Brett M. Esber, Esquire; Blank Rome LLP; 600 New Hampshire Avenue NW., Washington, DC 20037.

Synopsis: The amendment increases the number of slots exchanged under the agreement.

Agreement No.: 012249.

Title: CSAV/Hapag Lloyd Mexico Space Charter Agreement.

Parties: Compania Sud Americana de Vapores S.A. and Hapag Lloyd A.G.

Filing Party: Walter H. Lion, McLaughlin & Stern, LLP; 260 Madison Avenue, New York, NY 10016.

Synopsis: The agreement authorizes CSAV to charter space from HLAG in the trade between ports on the Pacific coast of Mexico, on the one hand, and ports on the Pacific coast of the United States, on the other hand.

By Order of the Federal Maritime Commission.
Dated: February 28, 2014.
Rachel E. Dickon,
Assistant Secretary.

[FR Doc. 2014-04880 Filed 3-4-14; 8:45 am]

BILLING CODE 6730-01-P